DEPARTMENT OF COMMERCE

Bureau of Export Administration

Action Affecting Export Privileges; Mahmood Reza Hashemi

Order

In the Matter of: Mahmood Reza Hashemi 193 Route 46 Budd Lake, New Jersey 0728, Respondent.

The Office of Export Enforcement, Bureau of Export Administration, United States Department of Commerce (BXA), having notified Mahmood Reza Hashemi (Hashemi) of its intention to initiate an administrative proceeding against Hashemi pursuant to Section 13(c) of the Export Administration Act of 1979, as amended (50 U.S.C.A. app. §§ 2401-2420 (1991, Supp. 2000 and Pub. L. No. 106-508)) (the Act), ¹ and the Export Administration Regulations (currently codified at 15 CFR Parts 730-776 (2000)) (the Regulations), ² based on allegations that, on or about May 5, 1998 and on or about August 10, 1998, Hashemi attempted to export U.S.-origin Gastesters from the United States through Germany to Iran without obtaining the authorization required by Section 746.7 of the Regulations, in violation of Section 764.2(a) of the Regulations; and

¹ During the time of the Act's lapse (August 20, 1994 through November 12, 2000), the President, through Executive Order 12924 (3 CFR, 1994 Comp. 917 (1995)), which had been extended by successive Presidential Notices, the most recent being that of August 3, 2000 (65 Fed. Reg. 48347, August 8, 2000), continued the Regulations in effect under the International Emergency Economic Powers Act (50 U.S.C.A. §§ 1701-1706 (1992 & Supp. 2000)).

² The Regulations governing the violations at issue are found in the 1998 version of the Code of Federal Regulations. Those Regulations are codified at 15 CFR parts 730-776 (1998) and, to the degree to which they pertain to this matter, are substantially the same as the 2000 version.

BXA and Hashemi having entered into a Settlement Agreement pursuant to Section 766.18(a) of the Regulations whereby they agreed to settle this matter in accordance with the terms and conditions set forth therein, and the terms of the Settlement Agreement having been approved by me;

It Is Therefore Ordered:

First, Mahmood Reza Hashemi, 193 Route 46, Budd Lake, New Jersey, and all of his successors and assigns, officers, representatives, agents and employees, may not, for a period of 10 years from the date of this Order, participate, directly or indirectly, in any way in any transaction involving any commodity, software or technology (hereinafter collectively referred to as item) exported or to be exported from the United States that is subject to the Regulations, or in any other activity subject to the Regulations, including, but not limited to:

A. Applying for, obtaining, or using any license, License Exception, or export control document;

B. Carrying on negotiations concerning, or ordering, buying, receiving, using, selling, delivering, storing, disposing of, forwarding, transporting, financing, or otherwise servicing in any way, any transaction involving any item exported or to be exported from the United States that is subject to the Regulations, or in any other activity subject to the Regulations; or

C. Benefitting in any way from any transaction involving any item exported or to be exported from the United States that is subject to the Regulations, or in any other activity subject to the Regulations.

Second, that no person may, directly or indirectly, do any of the following:

A. Export or reexport to or on behalf of the denied person any item subject to the Regulations;

B. Take any action that facilitates the acquisition or attempted acquisition by a denied person of the ownership, possession, or control of any item subject to the Regulations that has been or will be exported from the United States, including financing or other support activities related to a transaction whereby a denied person acquires or attempts to acquire such ownership, possession or control;

C. Take any action to acquire from or to facilitate the acquisition or attempted acquisition from the denied person of any item subject to the Regulations that has been exported from the United states;

D. Obtain from the denied person in the United States any item subject to the Regulations with knowledge or reason to know that the item will be, or is intended to be, exported from the United States; or

E. Engage in any transaction to service any item subject to the Regulations that has been or will be exported from the United States that is owned, possessed or controlled by a denied person, or service any item, of whatever origin, that is owned, possessed or controlled by a denied person if such service involves the use of any item subject to the Regulations that has been or will be exported from the United States. For purposes of this paragraph, servicing means installation, maintenance, repair, modification or testing.

Third, that, after notice and opportunity for comment as provided in Section 766.23 of the Regulations, any person, firm, corporation, or business organization related to the denied person by affiliation, ownership, control, or position of responsibility in the conduct of trade or related services may also be made subject to the provisions of this Order.

Fourth, that as authorized by Section 766.18(c) of the Regulations, the last five years of the denial period set forth in paragraph FIRST shall be suspended for a period of five years beginning five years from the date of the entry of this Order and shall thereafter be waived, provided that during the period of suspension, Hashemi has committed no violation of the Act or any regulation, order or license issued thereunder.

Fifth, that the proposed Charging Letter, the Settlement Agreement, and this Order shall be made available to the public.

This Order, which constitutes the final agency action in this matter, is effective immediately.

Entered this 12th day of March, 2001.
Lisa A. Prager,
Acting Assistant Secretary for Export Enforcement.

[FR Doc. 01-7130 Filed 3-21-01; 8:45 am]

BILLING CODE 3510-DT-M